DEPARTMENT OF ENERGY

Federal Energy Regulatory Commission

[Docket Nos. ER01-2569-005, ER98-4652-005, ER02-1175-004, and ER01-2568-003]

Boralex Livemore Falls LP, Boralex Stratton Energy LP, Boralex Ft. Fairfield LP, Boralex Ashland LP; Notice of Technical Conference

August 8, 2007.

Take notice that a technical conference will be held in the above-referenced proceedings on Wednesday, August 29, 2007 from 9 a.m. to 1 p.m. (EST) in the Room 10A-07, at the offices of the Federal Energy Regulatory Commission, 888 First Street, NE., Washington, DC 20426.

The conference will address issues raised with regard to Boralex's updated market power analysis.

The conference is open to all interested parties and interested persons.

FERC conferences are accessible under section 508 of the Rehabilitation Act of 1973. For accessibility accommodations please send an e-mail to accessibility@ferc.gov or call toll free (866) 208-3372 (voice) or 202-502-8659 (TTY), or send a fax to 202-208-2106 with the required accommodations.

For further information please contact Marek Smigielski at (202) 502-6818 or e-mail marek.smigielski@ferc.gov.

Kimberly D. Bose,
Secretary.

[FR Doc. E7-15911 Filed 8-14-07; 8:45 am]

BILLING CODE 6717-01-P